ENVIRONMENTAL PROTECTION AGENCY

40 CFR Part 1042

Control of Emissions From New and In-Use Marine Compression-Ignition Engines and Vessels; CFR Correction

Correction

In rule correction document C1-2011-8794 appearing on page 25246 in the issue of Wednesday, May 4, 2011, make the following correction:

§ 1042.901 [Corrected]

On page 25246, in the second column, in the twenty-third through twenty-fifth lines, the equation should read:

Percent of value = [(Value after modification)−(Value before modification)] × 100% ÷ (Value after modification)

[FR Doc. C2-2011-8794 Filed 5-6-11; 8:45 am]

BILLING CODE 1505-01-D